DEPARTMENT OF ENERGY

International Energy Agency Meetings

AGENCY: Department of Energy.

ACTION: Notice of meetings.

SUMMARY: The Industry Advisory Board (IAB) to the International Energy Agency (IEA) will meet on June 26, 2012, at the headquarters of the IEA in Paris, France in connection with a joint meeting of the IEA's Standing Group on Emergency Questions (SEQ) and the IEA's Standing Group on the Oil Market (SOM) to be held on the same date; and on June 27-28 in connection with a meeting of the SEQ on June 27 and 28.

DATES: June 26-28, 2012.

ADDRESSES: 9, rue de la Fédération, Paris, France.

FOR FURTHER INFORMATION CONTACT: Diana D. Clark, Assistant General for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on June 26, 2012, beginning at 2:30 p.m. The purpose of this notice is to permit attendance by representatives of U.S. company members of the IAB at a joint meeting of the IEA's Standing Group on Emergency Questions (SEQ) and the IEA's Standing Group on the Oil Market (SOM) which is scheduled to be held at the same location and time. The IAB will also meet at the IEA's headquarters on June 27-28, 2012, commencing at 9:30 a.m. on June 27 and continuing at 9:00 a.m. on June 28. The June 27 meeting will be immediately followed by a meeting of the Emergency Response Exercise 6 (ERE6) design group, to which certain IAB members will be invited. The IAB will also hold a preparatory meeting among company representatives at the same location at 8:30 a.m. on June 27. The agenda for this preparatory meeting is to review the agendas for the SEQ meeting on June 27-28.

The agenda of the joint session of the SEQ and the SOM on June 26 is under the control of the SEQ and the SOM. It is expected that the SEQ and the SOM will adopt the following agenda:

1. Adoption of the Agenda.

2. Approval of the Summary Record of the March 2012 Joint Session.

3. Reports on Recent Oil Market and Policy Developments in IEA Countries.

4. The Current Oil Market Situation.

5. The Program of Work and Budget 2013-2014.

6. The Medium-Term Gas Market Report 2012.

7. Other Business:

—Tentative Schedule of Upcoming Meetings:

October 17-18, 2012.

—November 26-28, 2012 (ERE6).

The agenda of the SEQ meeting on June 27 is under the control of the SEQ. It is expected that the SEQ will adopt the following agenda:

1. Adoption of the Agenda.

2. Approval of the Summary Record of the 135th Meeting.

3. Status of Compliance with IEP Stockholding Commitments.

4. Emergency Response Review Program.

—Schedule of Emergency Response Reviews.

—Emergency Response Review of Finland.

—Emergency Response Review of Sweden.

5. Emergency Response Exercises.

—Preparations for ERE6.

6. Emergency Response Measures.

—Costs and Benefits of Stockholding (Progress Report).

7. Electricity Security Action Plan.

8. Policy and Other Developments in Member Countries.

—Mid-Term Emergency Response Review of Ireland.

—Mid-Term Emergency Response Review of Canada.

—Data Collection in Greece.

9. Report from the Industry Advisory Board.

10. Activities with International Organizations and Non-Member Countries.

—ASEAN (APSA).

—Chile.

—Estonia.

—India (report on ERE).

—China.

—Thailand.

11. Documents for Information.

—Emergency Reserve Situation of IEA Member Countries on April 1, 2012.

—Base Period Final Consumption: 2Q 2011-1Q 2012.

—Updated Emergency Contacts List.

12. Other Business.

—Tentative Schedule of Next Meetings:

—October 17-18, 2012.

—November 26-28, 2012 (ERE6).

It is expected that that the agenda for the Exercise for SEQ delegates and IAB members to be held on June 28 will be as follows:

1. Introduction.

2. Breakout Groups—Hypothetical Supply Disruption.

3. Plenary Discussion with Summary From Breakout Groups.

4. Overview of Current Oil Market Situation, with Focus on Impact of Iranian Sanctions.

5. Plenary with Round Table Discussion.

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, June 11, 2012.
Diana D. Clark,
Assistant General Counsel for International and National Security Programs.

[FR Doc. 2012-14765 Filed 6-15-12; 8:45 am]

BILLING CODE 6450-01-P